NATIONAL AERONAUTICS AND SPACE ADMINISTRATION

[Notice: 04-131]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted within 60 calendar days from the date of this publication.

ADDRESSES: All comments should be addressed to Ms. Kathy Shaeffer, Mail Code V, National Aeronautics and Space Administration, Washington, DC 20546-0001.

FOR FURTHER INFORMATION CONTACT: Requests for additional information or copies of the information collection instrument(s) and instructions should be directed to Ms. Kathy Shaeffer, Acting NASA Reports Officer, NASA Headquarters, 300 E Street SW., Mail Code V, Washington, DC 20546, (202) 358-1230, kshaeff1@hq.nasa.gov.

SUPPLEMENTARY INFORMATION:

I. Abstract

The National Aeronautics and Space Administration (NASA) is requesting renewal of an existing collection that is used to ensure the proper disposition of rights to inventions made in the course of NASA-funded research. This information is required to monitor contract compliance in support of NASA's mission and in response to procurement requirements.

II. Method of Collection

NASA utilizes paper and electronic methods to collect information from collection respondents.

III. Data

Title: NASA FAR Supplement, Part 1827, Patents, Data, & Copyrights.

OMB Number: 2700-0052.

Type of Review: Revision of a currently approved collection.

Affected Public: Business or other for-profit; Not-for-profit institutions; Federal Government; State, Local, or Tribal Government.

Estimated Number of Respondents: 2,351.

Estimated Time Per Response: Ranges from ½ hour to 8 hours per response.

Estimated Total Annual Burden Hours: 8,603.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Patricia L. Dunnington,
Chief Information Officer.

[FR Doc. 04-26314 Filed 11-26-04; 8:45 am]

BILLING CODE 7510-13-P